NUCLEAR REGULATORY COMMISSION

[NRC-2018-0224]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from September 11, 2018, to September 24, 2018. The last biweekly notice was published on September 25, 2018.

DATES: Comments must be filed by November 8, 2018. A request for a hearing must be filed by December 10, 2018.

ADDRESSES: You may submit comments by any of the following methods (unless this document describes a different method for submitting comments on a specific subject):

• Federal Rulemaking Website: Go to http://www.regulations.gov and search for Docket ID NRC-2018-0224. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Ikeda Betts, Office of Nuclear Reactor Regulation, U.S. Nuclear Regulatory Commission, Washington DC 20555-0001; telephone: 301-415-1959, email: Ikeda.Betts@nrc.gov.

SUPPLEMENTARY INFORMATION:

I. Obtaining Information and Submitting Comments

A. Obtaining Information

Please refer to Docket ID NRC-2018-0224 facility name, unit number(s), plant docket number, application date, and subject when contacting the NRC about the availability of information for this action. You may obtain publicly-available information related to this action by any of the following methods:

• Federal Rulemaking Website: Go to http://www.regulations.gov and search for Docket ID NRC-2018-0224.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2018-0224 facility name, unit number(s), plant docket number, application date, and subject> in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment application(s), see the application for amendment which is available for public inspection in ADAMS and at the NRC's PDR. For additional direction on accessing information related to this document, see the “Obtaining Information and Submitting Comments” section of this document.

Duke Energy Carolinas, LLC, Docket Nos. 50-413 and 50-414, Catawba Nuclear Station, Units 1 and 2 (Catawba), York County, South Carolina

Duke Energy Carolinas, LLC, Docket Nos. 50-369 and 50-370, McGuire Nuclear Station, Units 1 and 2 (McGuire), Mecklenburg County, North Carolina

Duke Energy Progress, LLC, Docket No. 50-400, Shearon Harris Nuclear Power Plant, Unit 1 (Harris), Wake County, North Carolina

Duke Energy Progress, LLC, Docket No. 50-261, H.B. Robinson Steam Electric Plant, Unit No. 2 (Robinson), Darlington County, South Carolina

Date of amendment request: May 10, 2018. A publicly-available version is in ADAMS under Accession No. ML18131A068.

Description of amendment request: The amendments would revise the Technical Specifications (TSs) for Catawba and McGuire to remove ventilation system heaters. Specifically, ventilation system heaters would be removed from Catawba TSs 3.6.10, “Annulus Ventilation System (AVS),” 3.7.10, “Control Room Area Ventilation System (CRAVS),” 3.7.12, “Auxiliary Building Filtered Ventilation Exhaust System (ABFVES),” 3.7.13, “Fuel Handling Ventilation Exhaust System (FHVES),” 3.9.3, “Containment Penetrations,” 5.5.11, “Ventilation Filter Testing Program (VFTP),” and 5.6.6, “Ventilation Systems Heater Report,” and McGuire TSs 3.6.10, “Annulus Ventilation System (AVS),” 3.7.9, “Control Room Area Ventilation System (CRAVS),” 5.5.11, “Ventilation Filter Testing Program (VFTP),” and 5.6.6, “Ventilation Systems Heater Failure Report.” The specified relative humidity (RH) for charcoal testing in the ventilation system Surveillance Requirement (for Harris) and Ventilation Filter Testing Program (for Robinson) is revised from 70% to 95% and the ventilation system heaters will be removed from the Harris TSs 3/4.7.6, “Control Room Emergency Filtration System,” 3/4.7.7, “Reactor Auxiliary Building (RAB) Emergency Exhaust System,” 3/4.9.12, “Fuel Handling Building Emergency Exhaust System,” TSs 3.7.11, “Fuel Building Air Cleanup System (FBACS),” and 5.5.11, “Ventilation Filter Testing Program (VFTP).” The proposed changes are consistent with Technical Specifications Task Force (TSTF) Traveler TSTF-522, “Revise Ventilation System Surveillance Requirements to Operate for 10 Hours per Month,” Revision 0. Additionally, an administrative error is being corrected in McGuire's TS 5.5.11, “Ventilation Filter Testing Program (VFTP).”

Basis for proposed no significant hazards consideration determination: As required by 10 CFR 50.91(a), the licensee has provided its analysis of the issue of no significant hazards consideration, which is presented below:

1. Does the proposed change involve a significant increase in the probability or consequences of an accident previously evaluated?

Response: No.

The proposed change affects various CNS [Catawba], MNS [McGuire], HNP [Harris], and RNP [Robinson] ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH, which is more stringent than the current testing requirement of 70% RH.

These systems are not accident initiators and therefore, these changes do not involve a significant increase in the probability of an accident. The proposed system and filter testing changes are consistent with current regulatory guidance for these systems and will continue to assure that these systems perform their design function, which may include mitigating accidents. Thus the change does not involve a significant increase in the consequences of an accident.

Therefore, it is concluded that this change does not involve a significant increase in the probability or consequences of an accident previously evaluated.

2. Does the proposed change create the possibility of a new or different kind of accident from any accident previously evaluated?

Response: No.

The proposed change affects various CNS, MNS, HNP, and RNP ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH, which is more stringent than the current testing requirement of 70% RH.

The change proposed for these ventilation systems do not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The proposed change affects various CNS, MNS, HNP, and RNP ventilation system TS. For both CNS and MNS, the proposed change removes the requirement to test the heaters in these systems, and removes the Conditions in the associated TS which provide Required Actions, including reporting requirements, for inoperable heaters. In addition, the proposed change revises the CNS Surveillance Requirement (SR) 3.9.3.2 to operate for 15 continuous minutes without heaters running. For HNP and RNP, the proposed change removes the operability of the heaters from the SR. In addition, the electric heater output test is proposed to be deleted and a corresponding change in the charcoal filter testing to be made to require the testing be conducted at a humidity of at least 95% RH, which is more stringent than the current testing requirement of 70% RH.

The proposed increase to 95% RH in the required testing of the charcoal filters for HNP and RNP, compensates for the function of the heaters, which was to reduce the humidity of the incoming air to below the currently-specified value of 70% RH for the charcoal. The proposed change is consistent with regulatory guidance and continues to ensure that the performance of the charcoal filters is acceptable.

The CNS and MNS ventilation systems are tested at 95% relative humidity, and, therefore, do not require heaters to heat the incoming air and reduce the relative humidity. The proposed change eliminates Technical Specification requirements for testing of heater operation, and removes administrative actions for heater inoperability.

The proposed changes are consistent with the regulatory guidance and do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Kathryn B. Nolan, Deputy General Counsel, Duke Energy Corporation, 550 South Tryon Street, Mail Code DEC45A, Charlotte, NC 28202.

NRC Branch Chief: Michael Markley.

Duke Energy Progress, LLC, Docket Nos. 50-325 and 50-324, Brunswick Steam Electric Plant, Units 1 and 2, Brunswick County, North Carolina

Date of amendment request: August 14, 2018. A publicly-available version is in ADAMS under Accession No. ML18227A535.

Description of amendment request: The amendments would adopt Technical Specification Task Force (TSTF) Traveler TSTF-439, “Eliminate Second Completion Times Limiting Time from Discovery of Failure to Meet an LCO [Limiting Condition of Operation].” The proposed change deletes second Completion Times from the affected Required Actions contained in the Technical Specifications (TSs), along with removing the example contained in TS Section 1.3, and adding a discussion about alternating between Conditions.

Basis for proposed no significant hazards consideration determination: As required by 10 CFR 50.91(a), the licensee has provided its analysis of the issue of no significant hazards consideration, which is presented below:

1. Does the proposed change involve a significant increase in the probability or consequences of an accident previously evaluated?

Response: No.

The proposed change eliminates second Completion Times from the Technical Specifications. Completion Times are not an initiator to any accident previously evaluated. The consequences of an accident during the revised Completion Time are no different than the consequences of the same accident during the existing Completion Times. As a result, the probability and consequences of an accident previously evaluated are not affected by this change. The proposed change does not alter or prevent the ability of systems, structures, and components (SSCs) from performing their intended function to mitigate the consequences of an initiating event within the assumed acceptance limits. The proposed change does not affect the source term, containment isolation, or radiological release assumptions used in evaluating the radiological consequences of an accident previously evaluated. Further, the proposed change does not increase the types or amounts of radioactive effluent that may be released offsite nor significantly increase individual or cumulative occupational/public radiation exposures. The proposed change is consistent with the safety analysis assumptions and resultant consequences.

Therefore, the proposed change does not involve a significant increase in the probability or consequences of an accident previously evaluated.

2. Does the proposed change create the possibility of a new or different kind of accident from any accident previously evaluated?

Response: No.

The proposed change does not involve a physical alteration to the plant (i.e., no new or different type of equipment will be installed) or a change in the methods governing normal plant operation. The proposed change will not alter the design function, nor create new failure mechanisms, malfunctions, or accident initiators for the equipment related to the TS being altered.

Thus, based on the above, this change does not create the possibility of a new or different kind of accident from an accident previously evaluated.

3. Does the proposed change involve a significant reduction in a margin of safety?

Response: No.

The proposed change to delete the second Completion Time does not alter the manner in which safety limits, limiting safety system settings, or limited conditions for operation are determined. The safety analysis acceptance criteria are not affected by this change. The proposed change will not result in plant operation in a configuration outside of the design basis.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Kathryn B. Nolan, Deputy General Counsel, 550 South Tryon Street, M/C DEC45A, Charlotte, NC 28202.

NRC Acting Branch Chief: Booma Venkataraman.

Exelon Generation Company, LLC, Docket Nos. 50-317 and 50-318, Calvert Cliffs Nuclear Power Plant, Unit Nos. 1 and 2, Calvert County, Maryland

Exelon Generation Company, LLC and Exelon FitzPatrick, LLC, Docket No. 50-333, James A. FitzPatrick Nuclear Power Plant, Oswego County, New York

Exelon Generation Company, LLC, Docket Nos. 50-220 and 50-410, Nine Mile Point Nuclear Station, Units 1 and 2, Oswego County, New York

Date of amendment request: August 31, 2018. A publicly-available version is in ADAMS under Accession No. ML18249A096.

Description of amendment request: The amendments would revise the emergency response organization (ERO) positions identified in the emergency plan for each site.

Basis for proposed no significant hazards consideration determination: As required by 10 CFR 50.91(a), the licensee has provided its analysis of the issue of no significant hazards consideration for each site, which is presented below:

1. Does the proposed amendment involve a significant increase in the probability or consequences of an accident previously evaluated?

Response: No.

The proposed changes to the [site] Emergency Plan do not increase the probability or consequences of an accident. The proposed changes do not impact the function of plant Structures, Systems, or Components (SSCs). The proposed changes do not affect accident initiators or accident precursors, nor do the changes alter design assumptions. The proposed changes do not alter or prevent the ability of the onsite ERO to perform their intended functions to mitigate the consequences of an accident or event. The proposed changes remove ERO positions no longer credited or considered necessary in support of Emergency Plan implementation.

Therefore, the proposed changes to the [site] Emergency Plan do not involve a significant increase in the probability or consequences of an accident previously evaluated.

2. Does the proposed amendment create the possibility of a new or different kind of accident from any accident previously evaluated?

Response: No.

The proposed changes have no impact on the design, function, or operation of any plant SSCs. The proposed changes do not affect plant equipment or accident analyses. The proposed changes do not involve a physical alteration of the plant (i.e., no new or different type of equipment will be installed), a change in the method of plant operation, or new operator actions. The proposed changes do not introduce failure modes that could result in a new accident, and the proposed changes do not alter assumptions made in the safety analysis. The proposed changes remove ERO positions no longer credited or considered necessary in support of Emergency Plan implementation.

Therefore, the proposed changes to the [site] Emergency Plan do not create the possibility of a new or different kind of accident from any accident previously evaluated.

3. Does the proposed amendment involve a significant reduction in a margin of safety?

Response: No.

Margin of safety is associated with confidence in the ability of the fission product barriers (i.e., fuel cladding, reactor coolant system pressure boundary, and containment structure) to limit the level of radiation dose to the public.

The proposed changes do not adversely affect existing plant safety margins or the reliability of the equipment assumed to operate in the safety analyses. There are no changes being made to safety analysis assumptions, safety limits, or limiting safety system settings that would adversely affect plant safety as a result of the proposed changes. Margins of safety are unaffected by the proposed changes to the ERO staffing. The proposed changes are associated with the [site] Emergency Plan staffing and do not impact operation of the plant or its response to transients or accidents. The proposed changes do not affect the Technical Specifications. The proposed changes do not involve a change in the method of plant operation, and no accident analyses will be affected by the proposed changes. Safety analysis acceptance criteria are not affected by these proposed changes. The proposed changes to the Emergency Plan will continue to provide the necessary onsite ERO response staff.

Therefore, the proposed changes to the [site] Emergency Plan do not involve a significant reduction in a margin of safety.

The NRC staff has reviewed the licensee's analysis for each site and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Florida Power & Light Company, et al., Docket No. 50-389, St. Lucie Plant (St. Lucie), Unit No. 2, St. Lucie County, Florida

Date of amendment request: June 29, 2018, as supplemented by letter dated August 17, 2018. Publicly-available versions are in ADAMS under Accession Nos. ML18180A094 and ML18229A050, respectively.

Description of amendment request: The amendment would revise the Technical Specifications (TSs) by reducing the total number of control element assemblies (CEAs) specified in the TSs from 91 to 87.

Basis for proposed no significant hazards consideration determination: As required by 10 CFR 50.91(a), the licensee has provided its analysis of the issue of no significant hazards consideration, which is presented below:

1. Does the proposed amendment involve a significant increase in the probability or consequences of an accident previously evaluated?

Response: No.

A change is proposed in this License Amendment Request [(LAR)] to eliminate all four 4-element Control Element Assemblies (CEAs) currently used in the reactor core. These CEAs are part of 22 CEAs comprising the Shutdown Bank A. CEAs are required to provide sufficient shutdown margin during accident conditions. Removing these four CEAs does not have any adverse impact on the probability of these accidents, even for events were [sic] CEAs may be the accident initiator (e.g., CEA withdrawal, CEA drop, CEA ejection). On the contrary, for single CEA events the probability may even decrease since the number of chances for an event to occur will decrease with a lesser number of CEAs available. Also, since the Core Operating Limits Report (COLR) shutdown margin requirements will continue to be met, the accident analysis limits will not be challenged, so the consequences of previously evaluated accidents will remain unaffected.

Therefore, the proposed change does not involve a significant increase in the probability or consequences of an accident previously evaluated.

2. Does the proposed amendment create the possibility of a new or different kind of accident from any accident previously evaluated?

Response: No.

A change is proposed in this LAR to eliminate all four 4-element CEAs currently used in the St. Lucie Unit 2 core, reducing the number of CEAs in the core from 91 down to 87. With the proposed changes, no new or different type of equipment will be installed. The proposed change will not introduce credible new failure mechanisms, malfunctions, or accident initiators not considered in the design and/or licensing bases. As a result, the removal of the 4-element CEAs does not introduce a mechanism for creating a new or different kind of accident.

Therefore, the proposed change does not create the possibility of a new or different kind of accident from any previously evaluated.

3. Does the proposed amendment involve a significant reduction in a margin of safety?

Response: No.

A change is proposed in this LAR to eliminate all four 4-element CEAs currently used in the St. Lucie Unit 2 core. This constitutes a very small reduction of CEA worth available for shutdown margin, but will not affect the minimum shutdown margin requirement as used in the accident analysis. Thus, this will not translate into a significant reduction in a margin of safety.

The margin of safety is established through the core design limits defined in the COLR, in addition to the equipment design, operating parameters, and the setpoints at which automatic actions are initiated for accident conditions. The proposed changes will not adversely affect operation of plant equipment. These changes will not result in a change to the setpoints at which protective actions are initiated. The response of the plant systems to accidents and transients design limits reported in the Updated Final Safety Analysis Report (UFSAR) is unaffected by this change as nuclear design and fuel management will ensure that the COLR specified shutdown margin requirements are met. The change does not exceed or alter a design basis or safety limit in the UFSAR or the license. Therefore, accident analysis acceptance criteria are not affected.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Debbie Hendell, Managing Attorney—Nuclear, Florida Power & Light Company, 700 Universe Blvd. MS LAW/JB, Juno Beach, Florida 33408-0420.

NRC Acting Branch Chief: Booma Venkataraman.

Southern Nuclear Operating Company, Inc., Docket Nos. 52-025 and 52-026, Vogtle Electric Generating Plant, Units 3 and 4, Burke County, Georgia

Date of amendment request: August 27, 2018. A publicly-available version is in ADAMS under Accession No. ML18239A375.

Description of amendment request: The requested amendment proposes to depart from information in the Updated Final Safety Analysis Report (UFSAR) (which includes the plant-specific Design Control Document Tier 2 information) and involves related changes to plant-specific Tier 1 information, with corresponding changes to the associated Combined License (COL) Appendix C information. Specifically, the requested amendment would revise the COL and licensing basis documents to add vent lines to the piping between the passive core cooling system (PXS) collection boxes and in-containment refueling water storage tank (IRWST) to remove entrained air and improve the drain line flow rates.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes modify the PXS drain lines to add vent lines to the piping between the PXS collection boxes and IRWST to remove entrained air and improve drain line flow rates, the corresponding ITAAC [inspections, tests, analyses, and acceptance criteria] is modified to reflect this design change. The proposed changes do not have any adverse effects on the design functions of the PXS. The probabilities of accidents evaluated in the UFSAR are not affected.

The changes do not adversely impact the support, design, or operation of mechanical and fluid systems. The changes do not impact the support, design, or operation of any safety-related structures. There is no adverse change to the plant systems or response of the systems to postulated accident conditions. There is no change to the predicted radioactive releases due to normal operation or postulated accident conditions. The plant response to previously evaluated accidents or external events is not adversely affected, nor do the proposed changes create any new accident precursors.

Therefore, the proposed amendment does not involve a significant increase in the probability or consequences of an accident previously evaluated.

2. Does the proposed amendment create the possibility of a new or different kind of accident from any accident previously evaluated?

Response: No.

The proposed changes modify the PXS drain lines to add vent lines to the piping between the PXS collection boxes and IRWST to remove entrained air and improve drain line flow rates, the corresponding ITAAC is modified to reflect this design change. The proposed changes do not have any adverse effects on the design functions of the PXS, the structures or systems in which the PXS is used, or any other systems, structures, and components (SSCs) design functions or methods of operation that result in a new failure mode, malfunction, or sequence of events that affect safety-related or non-safety related equipment. This activity does not allow for a new fission product release path, [does not] result in a new fission product barrier [failure mode] mode, or create a new sequence of events that result in a significant fuel cladding failure.

Therefore, the proposed amendment does not create the possibility of a new or different kind of accident from any accident previously evaluated.

3. Does the proposed amendment involve a significant reduction in a margin of safety?

Response: No.

The proposed changes modify the PXS drain lines to add vent lines to the piping between the PXS collection boxes and IRWST to remove entrained air and improve drain line flow rates, the corresponding ITAAC is modified to reflect this design change.

The proposed changes do not have any adverse effects on the design functions of the PXS.

No safety analysis or design basis acceptance limit/criterion is challenged or exceeded by these changes. Therefore, the proposed changes do not involve a significant reduction in the margin of safety.

The NRC staff has reviewed the licensee's analysis and, based on this review, it appears that the three standards of 10 CFR 50.92(c) are satisfied. Therefore, the NRC staff proposes to determine that the requested amendments involve no significant hazards consideration.

Attorney for licensee: Mr. M. Stanford Blanton, Balch & Bingham LLP, 1710 Sixth Avenue North Birmingham, AL 35203-2015.

NRC Branch Chief: Jennifer Dixon-Herrity.

Virginia Electric and Power Company, Docket Nos. 50-280 and 50-281, Surry Power Station (Surry), Unit Nos. 1 and 2, Surry County, Virginia

Date of amendment request: July 31, 2018. A publicly-available version is in ADAMS under Accession No. ML18218A170.

Description of amendment request: The amendments would revise the Technical Specifications (TSs) for Facility Operating License Numbers DRP-32 and DRP-37 for Surry, Unit Nos. 1 and 2, respectively. The proposed license amendment request (LAR) replaces the current Small Break Loss of Coolant Accident (SBLOCA) methodologies contained in the TS list of NRC-approved methodologies for determining core operating limits with a new SBLOCA methodology. Specifically, the proposed LAR adds the Framatome Topical Report EMF-2328(P)(A), “PWR [Pressurized-Water Reactor] Small Break LOCA Evaluation Model S-RELAP5 Based,” as supplemented by the Surry-specific application report ANP-3676P, “Surry Fuel-Vendor Independent Small Break LOCA Analysis,” to the list of methodologies approved for reference in the Core Operating Limits Report (COLR) in TS 6.2.C. This reference replaces two existing COLR references for the current Westinghouse SBLOCA Evaluation Model. The added reference identifies the analytical methods used to determine core operating limits for the SBLOCA event described in the Surry Updated Final Safety Analysis Report (UFSAR), Section 14.5.2.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to TS 6.2.C permits the use of an NRC-approved methodology for analysis of the Small Break Loss of Coolant Accident (SBLOCA) to determine if Surry Power Station (Surry) Units 1 and 2 continue to meet the applicable design and safety analysis acceptance criteria. The proposed change to the list of NRC-approved methodologies in TS 6.2.C has no direct impact upon plant operation or configuration. The list of methodologies in TS 6.2.C does not impact either the initiation of an accident or the mitigation of its consequences. The results of the revised SBLOCA transient analysis and existing pre-transient oxidation limits demonstrate that Surry Units 1 and 2 continue to satisfy the 10 CFR 50.46(b)(1-3) Emergency Core Cooling System performance acceptance criteria using an NRC-approved evaluation model.

Therefore, the proposed change does not involve a significant increase in the probability or consequences of an accident previously evaluated.

2. Does the proposed amendment create the possibility of a new or different kind of accident from any accident previously evaluated?

Response: No.

The proposed change will not create the possibility of a new or different accident due to credible new failure mechanisms, malfunctions, or accident initiators not previously considered. There is no change to the parameters within which the plant is normally operated and no physical plant modifications are being made; thus, the possibility of a new or different type of accident is not created.

Therefore, the proposed change does not create the possibility of a new or different kind of accident from any accident previously evaluated.

3. Does the proposed amendment involve a significant reduction in a margin of safety?

Response: No.

No design basis or safety limits are exceeded or altered by this change. Approved methodologies have been used to ensure that the plant continues to meet applicable design criteria and safety analysis acceptance criteria.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar St., RS-2, Richmond, VA 23219.

NRC Branch Chief: Michael T. Markley.

III. Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

South Carolina Electric & Gas Company, South Carolina Public Service Authority, Docket No. 50-395, Virgil C. Summer Nuclear Station (Summer), Unit No. 1, Fairfield County, South Carolina

Date of amendment request: August 24, 2018, as supplemented by letter dated August 31, 2018.

Description of amendment request: The amendment would revise the Summer, Unit No. 1, Technical Specifications (TS) for a one-time extension to the TS surveillance requirement of channel calibrations of the Core Exit Temperature Instrumentation. The surveillance requirement of TS 4.3.3.6 will be revised to allow a one-time extension of the frequency of the Core Exit Temperature Instrumentation Channel Calibrations from “every refueling outage,” which has been interpreted as 18 months, to “every 19 months.”

Date of publication of individual notice in Federal Register: September 10, 2018 (83 FR 45688).

Expiration date of individual notice: September 23, 2018 (public comments); November 9, 2018 (hearing requests).

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

DTE Electric Company, Docket No. 50-341, Fermi 2, Monroe County, Michigan

Date of amendment request: October 9, 2017.

Brief description of amendment: The amendment revised the technical specification (TS) requirements in TS 3.10.1, “Inservice Leak and Hydrostatic Testing Operation,” by adopting Technical Specification Task Force (TSTF) Traveler TSTF-484, Revision 0, “Use of TS 3.10.1 for Scram Time Testing Activities.” Specifically, the proposed changes revised the Limiting Condition for Operation 3.10.1 to expand its scope to include provisions for temperature excursions greater than 200 degrees Fahrenheit as a consequence of maintaining pressure for inservice leak and hydrostatic testing, and as a consequence of maintaining pressure for scram time testing initiated in conjunction with an inservice leak or hydrostatic test, while considering operational conditions to be in Mode 4.

Date of issuance: September 13, 2018.

Effective date: As of the date of issuance and shall be implemented within 60 days of issuance.

Amendment No.: 210. A publicly-available version is in ADAMS under Accession No. ML18165A202; documents related to this amendment are listed in the Safety Evaluation enclosed with the amendment.

Renewed Facility Operating License No. NPF-43: The amendment revised the Renewed Facility Operating License and TS.

Date of initial notice in Federal Register: February 27, 2018 (83 FR 8509).

The Commission's related evaluation of the amendments contained in a Safety Evaluation dated September 13, 2018.

No significant hazards consideration comments received: No.

DTE Electric Company, Docket No. 50-341, Fermi 2, Monroe County, Michigan

Date of amendment request: August 31, 2017, as supplemented by letters dated April 4, May 17, June 27, and August 7, 2018.

Brief description of amendment: The amendment replaced the existing technical specification requirements related to “operations with a potential for draining the reactor vessel,” with new requirements on reactor pressure vessel water inventory control to protect Technical Specification Safety Limit 2.1.1.3, which requires the reactor vessel water level to be greater than the top of active irradiated fuel.

Date of issuance: September 17, 2018.

Effective date: As of the date of issuance and shall be implemented within 120 days of issuance.

Amendment No.: 211. A publicly-available version is in ADAMS under Accession No. ML18247A452; documents related to this amendment are listed in the Safety Evaluation enclosed with the amendment.

Renewed Facility Operating License No. NPF-43: The amendment revised the Renewed Facility Operating License and Technical Specifications.

Date of initial notice in Federal Register: November 7, 2017 (82 FR 51649). The supplemental letters dated April 4, May 17, June 27, and August 7, 2018, provided additional information that clarified the application, did not expand the scope of the application as originally noticed, and did not change the staff's original proposed no significant hazards consideration determination as published in the Federal Register.

The Commission's related evaluation of the amendment is contained in a Safety Evaluation dated September 17, 2018.

No significant hazards consideration comments received: No.

DTE Electric Company, Docket No. 50-341, Fermi 2, Monroe County, Michigan

Date of amendment request: August 24, 2017, as supplemented by letters dated October 18, 2017, February 21 and February 27, 2018.

Brief description of amendment: The amendment eliminated the main steam line radiation monitor (MSLRM) functions for initiating a reactor protection system automatic reactor trip and automatic closure of the main steam isolation valves and main steam line drain valves for the associated (Group 1) primary containment isolation system (PCIS). Specifically, it removed requirements for the MSLRM trip function from Technical Specification (TS) Table 3.3.1.1-1, “Reactor Protection System Instrumentation.” The amendment also removed requirements for PCIS Group 1 isolation from TS Table 3.3.6.1-1, “Primary Containment Isolation Instrumentation,” and the MSLRM isolation function is relocated and retained for the current existing PCIS Group 2 isolation of the reactor water sample line.

Date of issuance: September 20, 2018.

Effective date: As of the date of issuance and shall be implemented during the next refueling outage following approval.

Amendment No.: 212. A publicly-available version is in ADAMS under Accession No. ML18250A163; documents related to this amendment are listed in the Safety Evaluation enclosed with the amendment.

Renewed Facility Operating License No. NPF-43: The amendment revised the Renewed Facility Operating License and TSs.

Date of initial notice in Federal Register: January 2, 2018 (83 FR 164). The supplemental letters dated October 18, 2017, February 21 and February 27, 2018, provided additional information that clarified the application, did not expand the scope of the application as originally noticed, and did not change the staff's original proposed no significant hazards consideration determination as published in the Federal Register.

The Commission's related evaluation of the amendment is contained in a Safety Evaluation dated September 20, 2018.

No significant hazards consideration comments received: No.

Duke Energy Progress, LLC, Docket No. 50-261, H.B. Robinson Steam Electric Plant, Unit No. 2, Darlington County, South Carolina

Date of amendment request: September 27, 2017, as supplemented by letters dated May 16, July 11, and August 1, 2018.

Brief description of amendment: The amendment revised the Technical Specifications to reflect the addition of a second qualified offsite power circuit. In addition, the amendment authorized changing the Updated Final Safety Analysis Report to allow for the use of automatic load tap changers on the new (230 kilovolt (kV)) and the replacement (115 kV) startup transformers.

Date of issuance: September 10, 2018.

Effective date: As of the date of issuance and shall be implemented by the end of the next refueling outage.

Amendment No.: 261. A publicly-available version is in ADAMS under Accession No. ML18228A584; documents related to this amendment are listed in the Safety Evaluation enclosed with the amendment.

Renewed Facility Operating License No. DPR-23: The amendment revised the Renewed Facility Operating License and Technical Specifications.

Date of initial notice in Federal Register: December 5, 2017 (82 FR 57471). The supplemental letters dated May 16, July 11, and August 1, 2018, provided additional information that clarified the application, did not expand the scope of the application as originally noticed, and did not change the NRC staff's original proposed no significant hazards consideration determination as published in the Federal Register.

The Commission's related evaluation of the amendment is contained in a Safety Evaluation dated September 10, 2018.

No significant hazards consideration comments received: No.

Exelon FitzPatrick, LLC and Exelon Generation Company, LLC, Docket No. 50-333, James A. FitzPatrick Nuclear Power Plant, Oswego County, New York

Date of amendment request: May 17, 2018.

Brief description of amendment: The amendment revised Technical Specification (TS) 2.1.1, “Reactor Core SLs [Safety Limits],” to change Cycle 24 Safety Limit Minimum Critical Power Ratio (SLMCPR) numeric values. Specifically, the amendment modified the TS to decrease the numeric values of SLMCPR for Fitzpatrick from ≥ 1.10 to ≥ 1.07 for two recirculation loop operation and from ≥ 1.13 to ≥ 1.09 for single recirculation loop operation.

Date of issuance: September 19, 2018.

Effective date: As of the date of issuance and shall be implemented prior to startup from the fall 2018 refueling outage.

Amendment No.: 322. A publicly-available version is in ADAMS under Accession No. ML18214A706; documents related to this amendment are listed in the Safety Evaluation enclosed with the amendment.

Renewed Facility Operating License No. DPR-59: The amendment revised the Renewed Facility Operating License and TS.

Date of initial notice in Federal Register: July 13, 2018 (83 FR 32692).

The Commission's related evaluation of the amendment is contained in a Safety Evaluation dated September 19, 2018.

No significant hazards consideration comments received: No.

Florida Power & Light Company, Docket Nos. 50-250 and 50-251, Turkey Point Nuclear Generating Unit Nos. 3 and 4, Miami-Dade County, Florida

Date of amendment request: August 23, 2017, as supplemented by letters dated October 19, 2017, and March 27, 2018.

Brief description of amendments: The amendments revised the Technical Specifications by relocating the explosive gas monitoring instrumentation, explosive gas mixture, and gas decay tanks system requirements to licensee-controlled documents and establishing a gas decay tank explosive gas and radioactivity monitoring program. The amendments also relocated the standby feedwater system requirements to licensee-controlled documents and modified related auxiliary feedwater system requirements.

Date of issuance: September 11, 2018.

Effective date: As of the date of issuance and shall be implemented within 90 days of issuance.

Amendment Nos.: 282 (Unit No. 3) and 276 (Unit No. 4). A publicly-available version is in ADAMS under Accession No. ML18214A125; documents related to these amendments are listed in the Safety Evaluation enclosed with the amendments.

Renewed Facility Operating License Nos. DPR-31 and DPR-41: The amendments revised the Renewed Facility Operating Licenses and Technical Specifications.

Date of initial notice in Federal Register: November 21, 2017 (82 FR 55406). The supplemental letter dated March 27, 2018, provided additional information that clarified the application, did not expand the scope of the application as originally noticed, and did not change the NRC staff's original proposed no significant hazards consideration determination as published in the Federal Register.

The Commission's related evaluation of the amendments is contained in a Safety Evaluation dated September 11, 2018.

No significant hazards consideration comments received: No.

Wolf Creek Nuclear Operating Corporation, Docket No. 50-482, Wolf Creek Generating Station, Unit 1 (WCGS), Coffey County, Kansas

Date of amendment request: June 28, 2017, as supplemented by letters dated February 15, May 29, June 20, and August 30, 2018.

Brief description of amendment: The amendment added new Technical Specification (TS) 3.7.20, “Class 1E Electrical Equipment Air Conditioning (A/C) System,” to the WCGS TSs. New TS 3.7.20 includes (1) a limiting condition for operation (LCO) statement, (2) an Applicability statement, during which the LCO must be met, (3) ACTIONS to be applied when the LCO is not met, including Conditions, Required Actions, and Completion Times, and (4) Surveillance Requirements with a specified Frequency to demonstrate that the LCO is met for the Class 1E Electrical Equipment A/C System trains at WCGS. Additionally, the Table of Contents is also revised to reflect the incorporation of new TS 3.7.20.

Date of issuance: September 11, 2018.

Effective date: As of the date of issuance and shall be implemented within 90 days from the date of issuance.

Amendment No.: 219. A publicly-available version is in ADAMS under Accession No. ML18219A564; documents related to this amendment are listed in the Safety Evaluation enclosed with the amendment.

Renewed Facility Operating License No. NPF-42: The amendment revised the Renewed Facility Operating License and Technical Specifications.

Date of initial notice in Federal Register: October 3, 2017 (82 FR 46099). The supplemental letters dated February 15, May 29, June 20, and August 30, 2018, provided additional information that clarified the application, did not expand the scope of the application as originally noticed, and did not change the NRC staff's original proposed no significant hazards consideration determination as published in the Federal Register.

The Commission's related evaluation of the amendment is contained in a Safety Evaluation dated September 11, 2018.

No significant hazards consideration comments received: No.

Dated at Rockville, Maryland, this 1st day of October, 2018.
For the Nuclear Regulatory Commission.
Gregory F. Suber,
Acting Director, Division of Operating Reactor Licensing, Office of Nuclear Reactor Regulation.

[FR Doc. 2018-21669 Filed 10-5-18; 8:45 am]

BILLING CODE 7590-01-P